DEPARTMENT OF THE INTERIOR

National Park Service

[NPS-WASO-NAGPRA-NPS0038197; PPWOCRADN0-PCU00RP14.R50000]

Notice of Intended Repatriation: Robert S. Peabody Institute of Archaeology, Andover, MA

AGENCY: National Park Service, Interior.

ACTION: Notice.

SUMMARY: In accordance with the Native American Graves Protection and Repatriation Act (NAGPRA), the Robert S. Peabody Institute of Archaeology intends to repatriate certain cultural items that meet the definition of unassociated funerary objects and that have a cultural affiliation with the Indian Tribes or Native Hawaiian organizations in this notice.

DATES: Repatriation of the cultural items in this notice may occur on or after July 31, 2024.

ADDRESSES: Ryan Wheeler, Robert S. Peabody Institute of Archaeology, 180 Main Street, Andover, MA 01810, telephone (978) 749-4490, email rwheeler@andover.edu.

SUPPLEMENTARY INFORMATION: This notice is published as part of the National Park Service's administrative responsibilities under NAGPRA. The determinations in this notice are the sole responsibility of the Robert S. Peabody Institute of Archaeology, and additional information on the determinations in this notice, including the results of consultation, can be found in the summary or related records. The National Park Service is not responsible for the determinations in this notice.

Abstract of Information Available

A total of 1,277 cultural items have been requested for repatriation. Under the auspices of the Robert S. Peabody Institute of Archaeology (then the Department of Archaeology at Phillips Academy), Warren K. Moorehead conducted an archeological survey of Maine from 1912-1920. During this survey, Moorehead removed thousands of items from multiple cemetery and burial sites in the state and sent much of it to what is now the Robert S. Peabody Institute of Archaeology. Moorehead detailed his expedition in A Report on the Archaeology of Maine published in 1922. While much of the material removed from these sites is housed at the Peabody Institute, Moorehead also traded items from Maine cemeteries with other institutions. Some cultural items from these cemeteries are present in other institutional collections.

The 828 unassociated funerary objects were removed from seven known cemeteries in Hancock County, ME. The 828 cultural items include flaked and ground stones, modified faunal remains, ceramic fragments, and samples of soil, ochre, and charcoal. Of those items listed above, 74 are recorded in the Peabody Institute's database but could not be located. Peabody Institute staff members continue to look for these 74 missing items.

The nine unassociated funerary objects were removed from one known cemetery in Kennebec County, ME. The nine cultural items are chipped and ground stones.

The 297 unassociated funerary objects were removed from three known cemeteries in Knox County, ME. The 297 cultural items include flaked and ground stones, modified flora and faunal remains, and ceramic fragments. Of those items listed above, 11 are recorded in the Peabody Institute's database but could not be located. Peabody Institute staff members continue to look for these 11 missing items.

The 142 unassociated funerary objects were removed from three known cemeteries in Penobscot County, ME. The 142 cultural items include flaked and ground stones as well as samples of soil, pyrite, and ochre.

The one unassociated funerary object was removed from a known cemetery in Somerset County, ME. The one unassociated funerary item is a pipe.

Determinations

The Robert S. Peabody Institute of Archaeology has determined that:

• The 1,277 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Houlton Band of Maliseet Indians; Mi'kmaq Nation (previously listed as Aroostook Band of Micmacs); Passamaquoddy Tribe; and the Penobscot Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 31, 2024. If competing requests for repatriation are received, the Robert S. Peabody Institute of Archaeology must determine the most appropriate requestor prior to repatriation. Requests for joint repatriation of the cultural items are considered a single request and not competing requests. The Robert S. Peabody Institute of Archaeology is responsible for sending a copy of this notice to the Indian Tribes and Native Hawaiian organizations identified in this notice and to any other consulting parties.

Authority: Native American Graves Protection and Repatriation Act, 25 U.S.C. 3004 and the implementing regulations, 43 CFR 10.9.

Dated: June 24, 2024.
Melanie O'Brien,
Manager, National NAGPRA Program.

[FR Doc. 2024-14465 Filed 6-28-24; 8:45 am]

BILLING CODE 4312-52-P